Title 3—

The President

Proclamation 9061 of November 22, 2013

National Family Week, 2013

By the President of the United States of America

A Proclamation

Whether united by blood or bonds of kinship—whether led by a mother and father, same-sex couple, single parent, or guardian—families are the building blocks of American society. During National Family Week, we celebrate the spirit that moves family members to care for one another, to grow and dream together, and to instill in their children the character that keeps our Nation strong.

As we honor America's families, we must also lift them up. We must restore the basic bargain that built our country—the idea that if you work hard and meet your responsibilities, you can get ahead. That is why my Administration has prioritized high-quality job creation, affordable health insurance for America's families, and a world-class education for every child. Earlier this year, I signed the American Taxpayer Relief Act, which permanently extended middle class tax cuts while expanding the Child Tax Credit and marriage penalty relief. I am calling on the Congress to increase the minimum wage, a step that would raise incomes for millions of working families. And because we must serve our military families as well as they serve us, First Lady Michelle Obama and Dr. Jill Biden's Joining Forces initiative is connecting service members, veterans, and military spouses with companies looking to hire.

This week, let us renew our family bonds. Whether by sharing a family meal, reading a bedtime story, or creating a holiday tradition, let us carve out a place in the lives of our loved ones. And as we do so, let us resolve that every family should have the opportunity to raise America's next generation of innovators, scholars, and leaders.

NOW, THEREFORE, I, BARACK OBAMA, President of the United States of America, by virtue of the authority vested in me by the Constitution and the laws of the United States, do hereby proclaim November 24 through November 30, 2013, as National Family Week. I invite all States, communities, and individuals to join in observing this week with appropriate ceremonies and activities to honor our Nation's families.

IN WITNESS WHEREOF, I have hereunto set my hand this twenty-second day of November, in the year of our Lord two thousand thirteen, and of the Independence of the United States of America the two hundred and thirty-eighth.

[FR Doc. 2013-28734

Filed 11-26-13; 11:15 am]

Billing code 3295-F4